SMALL BUSINESS ADMINISTRATION

[Disaster Declaration #21436 and #21437; TENNESSEE Disaster Number TN-20030]

Presidential Declaration Amendment of a Major Disaster for Public Assistance Only for the State of Tennessee

AGENCY: U.S. Small Business Administration.

ACTION: Amendment 1.

SUMMARY: This is an amendment of the Presidential declaration of a major disaster for Public Assistance Only for the State of Tennessee (FEMA-4898-DR), dated February 6, 2026.

Incident: Severe Winter Storm.

DATES: Issued on February 13, 2026.

Incident Period: January 22, 2026 through January 27, 2026.

Physical Loan Application Deadline Date: April 7, 2026.

Economic Injury (EIDL) Loan Application Deadline Date: November 6, 2026.

ADDRESSES: Visit the MySBA Loan Portal at https://lending.sba.gov to apply for a disaster assistance loan.

FOR FURTHER INFORMATION CONTACT: Sharon Henderson, Office of Disaster Recovery and Resilience, U.S. Small Business Administration, 409 3rd Street SW, Suite 6050, Washington, DC 20416, (202) 205-6734.

SUPPLEMENTARY INFORMATION: The notice of the President's major disaster declaration for Private Non-Profit organizations in the State of Tennessee, dated February 6, 2026, is hereby amended to include the following areas as adversely affected by the disaster.

Primary Counties: Lawrence, Maury, Robertson, Wilson.

All other information in the original declaration remains unchanged.

(Catalog of Federal Domestic Assistance Number 59008)

(Authority: 13 CFR 123.3(b).)

James Stallings.
Associate Administrator, Office of Disaster Recovery & Resilience.

[FR Doc. 2026-03355 Filed 2-19-26; 8:45 am]

BILLING CODE 8026-09-P